DEPARTMENT OF HEALTH AND HUMAN SERVICES

National Institutes of Health

Center for Scientific Review; Amended Notice of Meeting

Notice is hereby given of a change in the meeting of the Center for Scientific Review Special Emphasis Panel, August 11, 2005, 11 a.m. to August 11, 2005, 12:30 p.m. National Institutes of Health, 6701 Rockledge Drive, Bethesda, MD 20892 which was published in the Federal Register on July 13, 2005, 70 FR 40392-40393.

The meeting will be held August 18, 2005, from 2 p.m. to 3:30 p.m. The meeting location remains the same. The meeting is closed to the public.

Dated: July 29, 2005.
Anthony M. Coelho, Jr.,
Acting Director, Office of Federal Advisory Committee Policy.

[FR Doc. 05-15511 Filed 8-4-05; 8:45 am]

BILLING CODE 4140-01-M